DEPARTMENT OF HOMELAND SECURITY

U.S. Customs and Border Protection

Notice of Cancellation of Customs Broker Licenses

AGENCY: U.S. Customs and Border Protection, U.S. Department of Homeland Security.

ACTION: General notice.

SUMMARY: Pursuant to section 641 of the Tariff Act of 1930, as amended, (19 U.S.C. 1641) and the Customs Regulations (19 CFR 111.51), the following Customs broker licenses and all associated permits are cancelled without prejudice.

Name | License No. | Issuing port
Rafael I. Morales | 13682 | Laredo.
Deborah C. Martin | 11423 | Los Angeles.
Thomas Tello | 06319 | Los Angeles.
Thomas Tello & Co., Inc | 09841 | Los Angeles.
World International Freight Forwarders, Inc | 04187 | New Orleans.
Kay Diamond, Ltd. dba Salviati & Santori | 15788 | New York.
Pronto Cargo Brokers, Inc | 06437 | Miami.

Dated: August 11, 2009.
Daniel Baldwin,
Assistant Commissioner, Office of International Trade.

[FR Doc. E9-20036 Filed 8-19-09; 8:45 am]

BILLING CODE 9111-14-P